DEPARTMENT OF ENERGY

Federal Energy Regulatory Commission

[Docket No. RP01-166-001]

ANR Pipeline Company; Notice of Proposed Changes in FERC Gas Tariff

December 21, 2000.

Take notice that on December 15, 2000, ANR Pipeline Company (ANR) tendered for filing as part of its FERC Gas Tariff, Original Volume No. 2, the following revised tariff sheets, to be effective January 1, 2001:

Substitute Fifteenth Revised Sheet No. 570

Substitute Second Revised Sheet No. 573

ANR states that the above-referenced tariff sheets are being filed to correct a clerical error in ANR's December 1, 2000 filing in the captioned proceeding, which sought a continuance of the suspension of ANR's tariff provisions regarding the requirement to annually redetermine the monthly charge for services provided to High Island Offshore System under ANR's Rate Schedule X-64. The December 1st filing did not reflect that (a) the proposed charge was an annual fee, and (b) the term extension commences on January 1, 2001 and expires December 31, 2015.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments and protests may be filed electronically via the internet in lieu of paper. See, 18 CFR 385.2001(a)(9)(iii) and the instructions on the Commission's web site at http://www.ferc.fed.us/efi/doorbell.htm.

Linwood A. Watson, Jr.,
Acting Secretary.

[FR Doc. 00-33096 Filed 12-27-00; 8:45 am]

BILLING CODE 6717-01-M